DEPARTMENT OF TRANSPORTATION

Federal Aviation Administration

Advisory Circular 25.1435-1, Hydraulic System Certification Tests and Analysis

AGENCY: Federal Aviation Administration (FAA) DOT.

ACTION: Notice of issuance of advisory circular.

SUMMARY: This notice announces the issuance of Advisory Circular (AC) 25.1435-1, Hydraulic System Certification Tests and Analysis. This AC provides guidance material for use as an acceptable means, but not the only means, of demonstrating compliance with the airworthiness standards for transport category airplanes that contain hydraulic system requirements. It is not mandatory and does not constitute a regulation.

DATES: Advisory Circular 25.1435-1 was issued by the Acting Manager, Transport Airplane Directorate, Aircraft Certification Service, ANM-100, on May 21, 2001.

How to obtain copies: A paper copy of AC 25.1435-1 may be obtained by writing to the U.S. Department of Transportation, Subsequent Distribution Office, DOT Warehouse, SVC-121.23, Ardmore East Business Center, 3341Q 75th Ave., Landover, MD 20785, telephone 301-322-5377, or faxing your request to the warehouse at 301-386-5394. The AC also will be available on the Internet at http://www.faa.gov/avr/air/airhome.htm, at the link titled “Advisory Circulars” under the “Available Information” down-drop menu.

Dated: Issued in Renton, Washington, on August 14, 2001.
Ali Bahrami,
Acting Manager, Transport Airplane Directorate, Aircraft Certification Service, ANM-100.

[FR Doc. 01-21169 Filed 8-21-01; 8:45 am]

BILLING CODE 4910-13-M